DEPARTMENT OF JUSTICE

Notice of Proposed Consent Decree Under the Resource Conseation and Recovery Act

Notice is hereby given that, on September 20, 2010, a proposed Consent Decree in United States v. High Plains Resources, Inc., Civil Action No. 2:09-CV-00087-ABJ, was lodged with the United States District Court for the District of Wyoming.

The proposed Consent Decree will settle the United States' claims on behalf of the U.S. Environmental Protection Agency (“EPA”) pursuant to Section 7003 of the Solid Waste Disposal Act, as amended by the Resource Conservation and Recovery Act of 1976 (“RCRA”), 42 U.S.C. 6973, for civil penalties and permanent injunctive relief for failure to comply with the Administrative Order, Docket No. RCRA-08-226-004, issued by EPA to Defendant on September 21, 2006 (the “2006 AO”), and abate an imminent and substantial endangerment, particularly to wildlife, associated with a commercial oilfield waste disposal facility known as the Parkman Reservoir Disposal Facility (the “Facility”) located in Johnson County, Wyoming. The Consent Decree resolves all claims in the Complaint, in return for which Defendant will (a) Implement an operation and maintenance (“O&M”) plan to prevent endangering migratory birds and wildlife while the Facility remains open; (b) establish a trust fund in the amount of $206,000 to cover the cost of the eventual closure of the Facility; and (c) pay a civil penalty in the amount of $40,000.

The Department of Justice will receive comments relating to the proposed Consent Decree for a period of 30 days from the date of this publication. Comments on the Consent Decree should be addressed to the Assistant Attorney General, Environment and Natural Resources Division, and either e-mailed to pubcomment-ees.enrd@usdoj.gov or mailed to P.O. Box 7611, U.S. Department of Justice, Washington, DC 20044-7611, and should refer to United States v. High Plains Resources Inc., Civil Action No. 2:09-CV-00087-ABJ, D.J. Ref. No. 90-7-1-09271. Commenters may request an opportunity for a public meeting in the affected area, in accordance with Section 7003(d) of RCRA, 42 U.S.C. 6973(d).

The proposed Consent Decree may be examined at the Office of the United States Attorney, District of Wyoming, J.C. O'Mahoney Federal Building, 2120 Capitol Avenue, Suite 4002, Cheyenne, WY 82001, and at U.S. EPA, Region 8, 1595 Wynkoop Street, Denver, CO 80202-1129. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number (202) 514-0097, phone number (202) 514-1547. If requesting a copy by mail from the Consent Decree Library, please enclose a check in the amount of $11.25 ($0.25 per page reproduction cost) payable to the United States Treasury or, if requesting by e-mail or fax, forward the check in that amount to the Consent Decree Library at the address stated above. If requesting a copy exclusive of appendices, please enclose a check in the amount of $6.75 ($0.25 per page reproduction cost) payable to the United States Treasury.

Maureen Katz,
Assistant Chief, Environmental Enforcement Section, Environment and Natural Resources Division.

[FR Doc. 2010-24072 Filed 9-24-10; 8:45 am]

BILLING CODE 4410-15-P